ENVIRONMENTAL PROTECTION AGENCY

[FRL-8552-2]

Clean Air Act Operating Permit Program; Petition for Objection to State Operating Permit for Kerr-McGee Gathering, LLC—Frederick Compressor Station

AGENCY: Environmental Protection Agency (EPA).

ACTION: Notice of final action.

SUMMARY: This document announces that the EPA Administrator has responded to a citizen petition asking EPA to object to an operating permit issued by the Colorado Department of Public Health and Environment (CDPHE). Specifically, the Administrator has granted the January 3, 2007 petition, submitted by Rocky Mountain Clean Air Action (Petitioner), to object to January 1, 2007 operating permit issued to Kerr-McGee Gathering to operate the Frederick Natural Gas Compressor Station (Kerr-McGee-Frederick Station).

Pursuant to section 505(b)(2) of the Clean Air Act (Act), Petitioners may seek judicial review of those portions of the petitions, which EPA denied in the United States Court of Appeals for the appropriate circuit. Any petition for review shall be filed within 60 days from the date this notice appears in the Federal Register, pursuant to section 307 of the Act.

ADDRESSES: You may review copies of the final Order, the petition, and other supporting information at the EPA Region 8, 1595 Wynkoop Street, Denver, Colorado 80202-1129.

EPA requests that if at all possible, you contact the individual listed in the FOR FURTHER INFORMATION CONTACT section to view the copies of the final order, the petition, and other supporting information. You may view the hard copies Monday through Friday, 8 a.m. to 4 p.m., excluding Federal holidays. If you wish to examine these documents, you should make an appointment at least 24 hours before the visiting day. Additionally, the final order for Kerr-McGee-Frederick Station is available electronically at: http://www.epa.gov/region7/programs/artd/air/title5/petitiondb/petitions/kerrmcgee_frederick_decision2007.pdf.

FOR FURTHER INFORMATION CONTACT: Donald Law, Office of Partnerships and Regulatory Assistance, EPA, Region 8, 1595 Wynkoop Street, Denver, Colorado 80202-1129, (303) 312-7015, law.donald@epa.gov.

SUPPLEMENTARY INFORMATION: The Act affords EPA a 45-day period to review, and object to as appropriate, a Title V operating permits proposed by State permitting authorities. Section 505(b)(2) of the Act authorizes any person to petition the EPA Administrator, within 60 days after the expiration of this review period, to object to a Title V operating permit if EPA has not done so. Petitions must be based only on objections to the permit that were raised with reasonable specificity during the public comment period provided by the State, unless the petitioner demonstrates that it was impracticable to raise these issues during the comment period or the grounds for the issue arose after this period.

The EPA received a petition from Rocky Mountain Clean Air Action dated January 3, 2007, requesting that EPA object to the issuance of the Title V operating permit to Kerr-McGee Gathering, LLC for the operation of the Frederick Natural Gas Compressor Station for the following reasons: (I) The Title V permit failed to assure compliance with PSD requirements because CDPHE failed to consider whether emissions from adjacent and interrelated pollutant emitting activities triggered PSD review, specifically Kerr-McGee owned natural gas wells that supply gas to the Frederick Station; (II) in light of CDPHE's failure to consider PSD compliance, it is likely that the Title V permit must include a compliance schedule; (III) CDPHE failed to respond to significant comments submitted by the Petitioner during the Title V public comment period; and (IV) CDPHE failed to consider adjacent and interrelated pollutant emitting activities in defining the “source” subject to Title V.

On February 7, 2008, the Administrator issued an order granting the petition. The order explains the reasons behind EPA's conclusion to grant the petition for objection.

Dated: March 27, 2008.
Stephen S. Tuber,
Acting Deputy Regional Administrator, Region 8.

[FR Doc. E8-7211 Filed 4-4-08; 8:45 am]

BILLING CODE 6560-50-P